COMMISSION ON CIVIL RIGHTS

Sunshine Act Meeting Notice

AGENCY: United States Commission on Civil Rights.

ACTION: Notice of Commission Business Meeting.

DATES: Friday, June 17, 2016, at 12:30 p.m. EST.

ADDRESSES: Place: National Place Building, 1331 Pennsylvania Ave. NW., 11th Floor, Suite 1150, Washington, DC 20245 (Entrance on F Street NW.).

FOR FURTHER INFORMATION CONTACT: Gerson Gomez, Media Advisor at telephone: (202) 376-8371 or email: publicaffairs@usccr.gov.

SUPPLEMENTARY INFORMATION: This business meeting is open to the public. If you would like to listen to the business meeting, please contact the above for the call-in information. Persons with hearing impairments, please contact the above for how to access the Federal Relay Service for the meeting.

Hearing-impaired persons who will attend the briefing and require the services of a sign language interpreter should contact Pamela Dunston at (202) 376-8105 or at signlanguage@usccr.gov at least seven business days before the scheduled date of the meeting.

Meeting Agenda

I. Business Meeting

A. Approval of Agenda

B. Program Planning

• Discussion of proposed Concept Papers for 2017 Statutory Enforcement Report

• Discussion and vote on Commission Letter regarding guidance issued by the Department of Education's Office for Civil Rights on transgender students and their protections under title IX of the Education Amendments of 1972

C. State Advisory Committees

• Status of State Advisory Committees by the Chief of the Regional Programs Unit

• Vote on Administrative Instruction (5-9) governing the appointments of State Advisory Committee members

• Appointment of members to Advisory Committees

• Nevada

• Delaware

• Vermont

• New York

• Connecticut

• Minnesota

• Presentation by the Chair of the Illinois Advisory Committee on Environmental Justice

a. Management and Operations

• Staff Director's Report

b. Status of USCCR Web site Transition

D. Other

II. Adjourn Meeting

Dated: June 7, 2016.
David Mussatt,
Regional Programs Unit Chief, U.S. Commission on Civil Rights.

[FR Doc. 2016-13802 Filed 6-7-16; 4:15 pm]

BILLING CODE 6335-01-P